DEPARTMENT OF ENERGY

Federal Energy Regulatory Commission

[Docket No. CP10-100-000]

New York State Electric & Gas Corporation; Notice of Application

April 9, 2010.

Take notice that on March 24, 2010, New York State Electric & Gas Corporation (NYSEG), filed with the Commission an application under section 7(b) of the Natural Gas Act (NGA) for authorization to abandon the limited jurisdiction blanket certificate to provide storage services in interstate commerce issued in Docket No. CP97-192-000. NYSEG states that is the owner of the Seneca Lake Storage Project in Schuyler County, New York.

NYSEG states that it has entered into an asset purchase agreement with Inergy Midstream, LLC (Inergy), whereby affiliates of Inergy will acquire all of the surface and subsurface facilities of the Seneca Lake Storage Project. Inergy intends to transfer the storage cavern and West Lateral to its affiliate, Arlington Storage Company, LLC (ASC), and the East Pipeline to another affiliate, Inergy Pipeline East, LLC. In addition, NYSEG intends to, to the extent required, abandon by assignment to ASC the Operational Balancing Agreement entered into by NYSEG in support of its Seneca Lake Storage Project services. Separately, ASC is submitting an application to the Commission for a certificate of public convenience and necessity and related authorizations that would allow it to operate the acquired facilities under its existing FERC tariff to provide interstate storage services at market-based rates.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Comment Date: April 20, 2010.

Kimberly D. Bose,
Secretary.

[FR Doc. 2010-8700 Filed 4-15-10; 8:45 am]

BILLING CODE 6717-01-P